DEPARTMENT OF HOUSING AND URBAN DEVELOPMENT

[Docket No. FR-6081-N-09]

Order of Succession for HUD Region VII

AGENCY: Office of Field Policy and Management, HUD.

ACTION: Notice of Order of Succession.

SUMMARY: In this notice, the Assistant Deputy Secretary, for Field Policy and Management, Department of Housing and Urban Development, designates the Order of Succession for the Kansas City Regional Office and its Field Offices (Region VII). This Order of Succession supersedes all previous Orders of Succession for HUD Region VII.

DATES: August 17, 2018.

FOR FURTHER INFORMATION CONTACT: John B. Shumway, Assistant General Counsel, Administrative Law Division, U.S. Department of Housing and Urban Development, 451 7th Street SW, Room 9262, Washington, DC 20410-0500, telephone number 202-402-5190 (this is not a toll-free number). This number may be accessed through TTY by calling the toll-free Federal Relay Service at 800-877-8339.

SUPPLEMENTARY INFORMATION: The Assistant Deputy Secretary for Field Policy and Management, Department of Housing and Urban Development, is issuing this Order of Succession of officials authorized to perform the functions and duties of the Kansas City Regional Office and its Field Offices when by reason of absence, disability, or vacancy in office the Regional Administrator or Field Office Directors are not available to exercise the powers or perform the duties of their Office. This Order of Succession is subject to the provisions of the Federal Vacancies Reform Act of 1998 (5 U.S.C. 3345-3349d). This publication supersedes all previous Orders of Succession for Region VII. Accordingly, the Assistant Deputy Secretary for Field Policy and Management designates the following Order of Succession:

Section A. Order of Succession

Subject to the provisions of the Federal Vacancies Reform Act of 1998, during any period when by reason of absence, disability, or vacancy in office the Regional Administrator for the Department of Housing and Urban Development or the Field Office Directors are not available to exercise the powers or perform the duties of their Office, the following officials within each Office and those officials specified by Office location are hereby designated to exercise the powers and perform the duties of the Office:

1. Kansas City Regional Office Order of Succession

a. Deputy Regional Administrator;

b. Regional Counsel;

c. Deputy Regional Counsel;

d. Director, Public and Indian Housing.

2. Omaha Field Office Order of Succession

a. Director, Public and Indian Housing;

b. Director, Community Planning and Development.

3. Des Moines Field Office Order of Succession

a. Chief Counsel.

4. St. Louis Field Office Order of Succession

a. Chief Counsel;

b. Director, Public and Indian Housing.

These officials shall perform the functions and duties of the office in the order specified herein, and no official shall serve unless all the other officials whose position titles precede his/hers in this order are unable to act by reason of absence, disability, or vacancy in office.

Section B. Authority Superseded

This Order of Succession supersedes all previous Orders of Succession for Region VII.

Authority: Section 7(d), Department of Housing and Urban Development Act, 42 U.S.C. 3535(d).

Dated: August 17, 2018.
Matthew F. Hunter,
Assistant Deputy Secretary for Field Policy and Management.

[FR Doc. 2018-18370 Filed 8-23-18; 8:45 am]

BILLING CODE 4210-67-P